DEPARTMENT OF AGRICULTURE

Natural Resources Conservation Service

[Docket ID NRCS-2020-0003]

Record of Decision on the Little Otter Creek Watershed Plan, Caldwell County, Missouri

AGENCY: Natural Resources Conservation Service (NRCS), U.S. Department of Agriculture (USDA).

ACTION: Record of decision.

SUMMARY: This notice of availability presents the Record of Decision (ROD) for the Final Supplemental Environmental Impact Statement (FSEIS) for the Little Otter Creek Watershed Plan (LOCWP) in Caldwell County, Missouri. This task has been to help plan and implement watershed projects. This notice announces the plan to proceed with the installation of the preferred alternative identified in the FSEIS. The preferred alternative, which includes the construction of a 344-acre multiple purpose reservoir, will avoid environmental impacts to the extent possible while minimizing and mitigating for impacts that are unavoidable.

FOR FURTHER INFORMATION CONTACT: Chris Hamilton, Assistant State Conservationist for Water Resources and Easements, at chris.hamilton@usda.gov or (573) 876-0912. Persons with disabilities who require alternative means for communication should contact the USDA Target Center at (202) 720-2600 (voice).

SUPPLEMENTARY INFORMATION:

Decision

NRCS has decided to implement the LOCWP preferred alternative, which includes construction of a 344-acre multiple purpose reservoir while avoiding impacts to the extent possible and minimizing and mitigating for impacts that are unavoidable.

Background

The proposed Federal action includes providing technical assistance and financial assistance related to construction costs for one approximately 344-acre multiple purpose reservoir on Little Otter Creek, a water intake structure, a raw water line, fish and wildlife habitat enhancement, and recreational facilities. The purpose of the proposed Federal action is to:

• Provide approximately 1.24 million gallons per day (mgd) of locally-controlled raw water supply to meet the projected 50-year usage demand for Caldwell County;

• Provide approximately 60,000 annual recreational user-days; and

• Provide an approximately 96 percent reduction in annual flood damages in the 3.8 miles of Little Otter Creek between the reservoir and the confluence with Otter Creek.

The 6,323-acre Little Otter Creek Watershed is located two miles east of Hamilton in Caldwell County in northwest Missouri. It is a tributary to Otter Creek that drains to Shoal Creek; the Grand River, and the Missouri River.

Engineering reports dating back nearly 50 years document water supply problems in Caldwell County. Underlying geologic formations severely limit groundwater quality and availability. The Missouri Drought Plan places Caldwell County in a region classified as having “severe surface and groundwater supply drought vulnerability.” Digital models estimate that existing water sources could supply only 37 percent of the county's demand during the drought of record. In addition, the LOCWP documented annual flood damages to crop and pasture land, fences, roads and bridges. LOCWP also identified the need for additional recreational opportunities in the surrounding area.

At the request of the Caldwell County Commission and the Caldwell County Soil and Water Conservation District, NRCS began watershed planning activities in July 2000 under the authority of the Watershed Protection and Flood Prevention Act of 1954 (Pub. L. 83-566, as amended, 16 U.S.C. 1001-1008). NRCS issued a notice of intent to prepare an Environmental Impact Statement (EIS) as published in the Federal Register on July 22, 2002 (67 FR 47766). On August 6, 2002, the voters of Caldwell County approved a one-half percent sales tax to assist in funding the local match for project installation. NRCS completed the LOCWP and EIS in March 2003 and announced a ROD to proceed with installation as published in the Federal Register on May 5, 2003 (68 FR 23692-23693). The project has not been installed because sufficient funding was not available. Installation of the proposed action will result in temporary and permanent impacts to jurisdictional waters of the United States requiring a Clean Water Act (CWA) section 404 permit. The U.S. Army Corps of Engineers (USACE) has not issued a section 404 permit for this project. Comments received during the EIS process suggested that a larger number of reasonable and practicable alternatives be considered. Potential impacts of all reasonable and practicable alternatives have been updated and analyzed in the Supplemental Environmental Impact Statement (SEIS) in compliance with section 404(b)(1) of the CWA. The USACE and the U.S. Environmental Protection Agency (EPA) completed an Approved Jurisdictional Determination in March 2010.

Alternatives

LOCWP established three project purposes: water supply, flood damage reduction, and recreation. The SEIS included a range of alternatives to address the three plan purposes. Reasonable alternatives were evaluated independently for each project purpose. Alternatives that met a project purpose were evaluated to estimate their environmental impacts. Alternatives that met one or two but not all three purposes were combined with other alternatives to develop multipurpose alternatives that met all three project purposes.

Water Supply

The planned water supply purpose is to provide a dependable long-term water supply to meet a projected 50-year demand of 1.24 mgd for Caldwell County residents. Nineteen water supply alternatives plus the No Action alternative were considered. The alternatives included various combinations of groundwater sources, streams and rivers, connecting to existing systems, existing lakes and five potential new reservoir locations.

Each alternative was screened for its ability to meet the water supply purpose and need by four selected criteria (below). Alternatives that met these criteria either alone or in combination with other alternatives were then evaluated to estimate the environmental impacts of each. The results of these evaluations were used to carry alternatives forward for further analysis.

• Alternatives must reliably provide 1.24 mgd of water during a drought equivalent to the drought of record in the 1950s to a centrally located site in Caldwell County near Hamilton, Missouri.

• Alternatives must comply with existing state and federal codes and regulations issued by the Missouri Department of Natural Resources, USEPA, and other agencies that may have jurisdiction over all or portions of the water supply infrastructure.

• Alternatives must provide raw or finished water of a quality that can be brought to current and future drinking water standards using treatment methods that are reasonable and typical for the region.

• Alternatives must provide a water supply through willing participation of potential suppliers.

Five alternatives met the water supply purpose and need criteria and were carried forward to be considered in the multipurpose analysis.

Flood Damage Reduction

A planned goal of 60 percent reduction in annual flood damages was selected. This value was high enough to provide significant benefits but low enough to allow analysis of a reasonable range of alternatives. Twelve flood damage reduction alternatives plus the No Action alternative were considered. The alternatives included various combinations of zoning, floodplain acquisition, conservation measures, wetlands storage, conveyance, constructing levees and raising bridges, valley encroachment berms, and dry and wet detention structures.

Each alternative was screened for its ability to meet the flood damage reduction purpose and need by three selected criteria (below). Alternatives that met these criteria either alone or in combination with other alternatives were then evaluated to estimate the environmental impacts of each. The results of these evaluations were used to carry alternatives forward for further analysis.

• Sixty percent or greater annual flood damage reduction.

• Compliance with existing codes and regulations.

• No increase in peak flow.

Three alternatives met the flood damage reduction purpose and need criteria independently and were carried forward to be considered in the multipurpose analysis. Two additional alternatives, when combined, met the flood damage reduction purpose and need criteria and were carried forward as a combination to be considered in the multipurpose analysis.

Recreation

The planned recreation purpose is to provide water-based recreation to help meet the unmet demand for Caldwell County and the 25-mile radius Recreation Market Area. Nine recreation alternatives plus the No Action alternative were considered. These alternatives considered combinations of creating recreational stream access, expanding existing private lake access, developing ponds, and several alternative reservoir locations.

Each alternative was screened for its ability to meet the recreation purpose and need by three selected criteria (below). Alternatives that met these criteria either alone or in combination with other alternatives were then evaluated to estimate the environmental impacts of each. The results of these evaluations were used to carry alternatives forward for further analysis.

• Alternatives must meet or exceed 45 percent of the unmet demand for water-based recreation user-days.

• Alternatives must comply with existing codes and regulations.

• Alternatives must be available for public use and have public access.

Three alternatives met the recreation purpose and need criteria independently and were carried forward to be considered in the multipurpose analysis. Two additional alternatives, when combined, met the recreation purpose and need criteria and were carried forward as a combination to be considered in the multipurpose analysis.

Multipurpose Analysis

The multipurpose analysis considered the alternatives carried forward that alone or in combination with other alternatives would meet planned purposes and needs. These alternatives were evaluated for their relative impacts to the environment including aquatic resources and threatened and endangered species. Relative impacts of alternatives were quantified according to their estimated impacts to streams, wetlands, and forests. Alternatives were also evaluated for their “practicability.” An alternative is practicable if it is “available and capable of being done after taking into consideration cost, existing technology, and logistics in light of overall project purposes.”

The multipurpose analysis found the LOCWP preferred alternative, which includes construction of a 344-acre multiple purpose reservoir, had the lowest permanent impact on both aquatic resources and potential threatened and endangered species habitat among all practicable alternatives and is the Proposed Action. This alternative will promote the national environmental policy as expressed in NEPA section 101. Intentional discharge from the reservoir at water surface elevations below the principal spillway crest is planned to minimize the impacts of the reservoir on downstream aquatic resources.

Compensatory Mitigation

Following all practicable means to avoid or minimize environmental harm from the preferred alternative, compensatory mitigation will be applied to the remaining unavoidable impacts. The LOCWP preferred alternative will result in approximately 36,243 linear feet of stream lost due to inundation and fill. This total includes 20,220 linear feet of perennial; 14,569 linear feet of intermittent, and 1,454 linear feet of ephemeral stream channel. The Missouri Stream Mitigation Method (MSMM) is a debit-credit system that guides stream mitigation activities in Missouri. Unavoidable impacts resulting from the dam and permanent pool total 183,376 debits under the MSMM. To compensate for these impacts, an equal or greater number of stream mitigation credits must be provided. In addition, approximately 4.1 acres of jurisdictional wetlands will be impacted by preferred alternative. All required wetlands credits plus 51,000 stream credits will be purchased from Swallow Tail LLC's North Grand River Wetland and Stream Mitigation Bank. Permittee responsible mitigation projects are planned to generate the following estimated in-stream mitigation credits:

(1) Four aquatic organism passage (AOP) barrier removal projects in Caldwell and Daviess counties (94,749 credits).

(2) Riparian plantings on property owned by the Caldwell County Commission (54,779 credits).

The final compensatory mitigation plan fully compensates for jurisdictional wetlands impacts and offers 200,528 stream mitigation credits, exceeding the preferred alternative credit requirements (183,376) by 17,152 credits.

Factors Considered in Making the Decision

The following conclusions were reached after carefully reviewing the proposed Little Otter Creek Watershed project in light of all national goals and policies, particularly those expressed in NEPA, and after evaluating the overall merit of possible alternatives to the project:

a. The LOCWP preferred alternative will employ reasonable and practical means that are consistent with NEPA while permitting the application of other national policies and interests. These means include a project planned and designed to minimize adverse effects on the natural environment while accomplishing authorized project purposes. Project features designed to preserve existing environmental values for future generations include:

(1) Provisions to recover significant archaeological and historic resources discovered during project construction;

(2) Establishing vegetation on construction areas with plant species beneficial to wildlife;

(3) Compensatory mitigation for impacts to stream and wetlands habitat;

(4) Supplemental flows to minimize impacts to downstream aquatic resources;

(5) Reduction in total watershed erosion and the amount of sediment delivered to downstream areas.

b. The Little Otter Creek Watershed project was planned using a systematic interdisciplinary approach involving integrated uses of the natural and social sciences and environmental design arts. All conclusions concerning the environmental impact of the project and overall merit of existing plans were based on a review of data and information that would be reasonably expected to reveal significant environmental consequences of the proposed project. These data included studies prepared specifically for the project and comments and views of all interested Federal, State, and local agencies and individuals. The results of this review constitute the basis for the conclusions and recommendations. The project will not affect any cultural resources eligible for inclusion in the National Register of Historic Places. Nor will the project affect any species of fish, wildlife, or plant or their habitats that have been designated as endangered or threatened.

c. In studying and evaluating the environmental impact of the Little Otter Creek Watershed project, every effort was made to express all significant environmental values quantitatively and to identify and give appropriate weight and consideration of nonquantifiable environmental values.

d. Every possible effort has been made to identify those adverse environmental effects that cannot be avoided if the project is constructed.

e. The long and short-term resource uses, long-term productivity, and the irreversible and irretrievable commitment of resources are described in the FEIS and FSEIS.

f. All reasonable and viable alternatives to project features and to the project itself were studied and analyzed with reference to national policies and goals, especially those expressed in NEPA and the Federal water resource development legislation under which the project was planned. Each possible course of action was evaluated as to its possible economic, technical, social, and overall environmental consequences to determine the tradeoffs necessary to accommodate all national policies and interests. No alternative or combination of alternatives will afford greater protection of the environmental values while accomplishing the other project goals and objectives.

g. The proposed project will be the most effective means of meeting national goals and is consistent in serving the public interest by including provisions to protect and enhance the environment. The recommended plan is the environmentally preferable plan.

Public Comment

One comment was submitted during the FSEIS public comment period specifying a preference for the No Action alternative, but the commenter provided no rationale, additional alternatives, or other impacts to consider. As such, no further action is being taken to address the comment.

Conclusion

The LOCWP uses all practical means, consistent with considerations of national policy, to meet the goals established in NEPA. The project will serve the overall public interest and meet the needs of the project sponsors. The EIS and FSEIS have been prepared, reviewed, and accepted in accordance with the provisions of NEPA as implemented by Departmental regulations for the preparation of EIS. After considering a broad range of alternatives, the EIS and FSEIS have found the LOCWP preferred alternative to be the environmentally preferable plan to serve the Sponsor's purpose and need.

NRCS has decided to implement the LOCWP preferred alternative, which includes construction of a 344-acre multiple purpose reservoir while avoiding impacts to the extent possible and minimizing and mitigating for impacts that are unavoidable.

Kevin Norton,
Associate Chief, Natural Resources Conservation Service.

[FR Doc. 2020-02602 Filed 2-10-20; 8:45 am]

BILLING CODE 3410-16-P